ENVIRONMENTAL PROTECTION AGENCY

40 CFR Part 52

[EPA-R05-OAR-2005-OH-0003; FRL-9159-3]

Approval and Promulgation of Air Quality Implementation Plans; Ohio; Final Approval and Promulgation of State Implementation Plans; Carbon Monoxide and Volatile Organic Compounds

AGENCY: Environmental Protection Agency (EPA).

ACTION: Final rule.

SUMMARY: In this action, under the Clean Air Act, we are: Approving into the State Implementation Plan (SIP) certain regulation revisions within Ohio Administrative Code (OAC) 3745-21 (Carbon Monoxide, Photochemically Reactive Materials, Hydrocarbons, and related Materials Standards) which have been adopted by the State; recognizing various emission control exemptions that have been granted for miscellaneous metal coating operations under OAC 3745-21-09(U)(2)(f); and taking no action on certain regulation revisions. We proposed to take these actions in a document published on January 22, 2010, and received no comments.

DATES: This final rule is effective on July 21, 2010.

ADDRESSES: EPA has established a docket for this action under Docket ID No. EPA-R05-OAR-2005-OH-0003. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Criteria Pollutant Section, Air Programs Branch (AR-18J), Environmental Protection Agency, Region 5, 77 West Jackson Boulevard, Chicago, Illinois 60604, (312) 353-8777; maietta.anthony@epa.gov.

SUPPLEMENTARY INFORMATION: Throughout this document whenever “we,” “us,” or “our” is used, we mean EPA. This supplementary information section is arranged as follows:

I. What were EPA's proposed actions?

II. Public Comments and EPA Responses

III. What action is EPA taking?

IV. Statutory and Executive Order Reviews

I. What were EPA's proposed actions?

This action addresses revisions to OAC 3745-21 in a set of submittals dated October 9, 2000, February 6, 2001, and August 3, 2001; and also addresses revisions to OAC 3745-21, submitted on June 24, 2003, as part of Ohio's five-year rule review process. On January 22, 2010 (75 FR 3668), EPA proposed a variety of actions regarding revisions to OAC 3745-21. We proposed to approve: (1) Revisions to the rules which corrected grammar and spelling mistakes; (2) revisions to attainment dates and compliance schedules listed within the rules; (3) clarifications which made hard-to-interpret portions of the rules easier to understand; (4) removal of an exemption for certain geographic areas to carbon monoxide (CO) rules; and, (5) site specific emissions limit amendments. Our proposed action contains more information on the rule revisions submitted and our evaluation of them.

In our proposed action, we also provided extensive discussion regarding a provision of 2745-21-09(U)(2)(f) authorizing alternate miscellaneous metal coating limits in selected cases. EPA proposed to recognize alternate limits that Ohio issued during a period when the State had unilateral authority to do so. EPA also described a process developed in concert with Ohio EPA for addressing future requests for such alternate limits. Further discussion of this process, as well as more information on the rule revisions submitted and our evaluation of them, can be found in our proposed action.

We proposed conditional approval of PAC 3745-21-09(BBB)(1) (which affects the BF Goodrich Company Akron Chemical Plant) and disapproval of OAC 3745-21-09(U)(1)(h) (which affects sources conducting surface coating of miscellaneous metal parts and products). For administrative convenience, we will complete rulemaking on these portions of Ohio's submittal in a later action.

II. Public Comments and EPA Responses

EPA's proposed action provided a 30-day public comment period. We did not receive any comments on the proposed action.

III. What action is EPA taking?

EPA today is only approving rules submitted by Ohio which have not been separately approved. For the full listing of rules we proposed to approve, please see the proposed rulemaking for today's action (75 FR 3668). In a separate rulemaking on July 28, 2009 (74 FR 37171), EPA has already approved later versions of certain rules. Additional information on the approval of these rules is provided in the proposal for that action published on May 7, 2009, at 74 FR 21295.

EPA is fully approving into the Ohio SIP the following revised rule paragraphs as adopted by the State of Ohio and as defined in Ohio's submittals:

In OAC 3745-21-09, title, paragraphs (A)(4), (B)(3)(a), (B)(3)(d), (B)(3)(e), (B)(3)(f), (B)(3)(h), (B)(3)(j), (B)(3)(l), (B)(4)(a), (B)(4)(b), (C)(4), (H)(1)(a), (H)(1)(b), (H)(3), (O)(5)(b), (O)(6)(a), (O)(6)(b), (R)(4), the portion of paragraph (U)(2)(e) which states “Daily usage limitations included in (U)(2)(e)(i) through (U)(2)(e)(iii) above shall not apply to coatings employed by the metal parts or products coating line on parts or products which are not metal”, (U)(2)(h), (Y)(1)(a)(i), (AA)(1)(b), (AA)(1)(c), (FF)(1), (II)(2), (II)(3), (II)(4), (KK)(1), (NN)(1), (NN)(2), (NN)(3),(NN)(4), (NN)(5), (OO), (OO)(1), (OO)(2), (OO)(3), (OO)(4), (PP)(2), (UU)(3), (AAA), (DDD), and Appendix A.

EPA is taking no action on revisions to 3745-21-09(U)(2)(f), from both the October 9, 2000, and June 24, 2003, submittals, because EPA approved a later version of this paragraph on July 28, 2009 (74 FR 37171). EPA will continue to honor exemptions granted by Ohio under this rule as it existed in the SIP after May 5, 1995, but prior to June 15, 1999. This leaves two time periods in which Ohio issued permits and amendments for which there are two separate methods to incorporate affected permits and amendments into the SIP: Prior to May 5, 1995, and after June 15, 1999. EPA will address any exemptions granted prior to May 5, 1995, in a separate rulemaking after we work with Ohio EPA to determine the proper course of action for dealing with these sources. EPA will address any sources seeking alternate limits under this paragraph after June 15, 1999, as they will be subject to limits which result from the ongoing EPA and Ohio EPA resolution of this matter.

EPA is also taking no action on revisions to OAC 3725-21 chapters 01, 02, 03, 04, 06, 08, and 10 because newer versions of these chapters were approved and incorporated into Ohio's SIP in a subsequent rulemaking (74 FR 37171).

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 20, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Volatile organic compounds.

Dated: May 20, 2010.
Walter W. Kovalick, Jr.,
Acting Regional Administrator, Region 5.

40 CFR part 52 is amended as follows:

PART 52—[AMENDED]

1. The authority citation for part 52 continues to read as follows:

Authority: 42 U.S.C. 7401 et seq.

Subpart KK—Ohio

2. Section 52.1870 is amended by adding paragraphs (c)(102)(i)(C)(1) and (c)(149) to read as follows:

§ 52.1870 Identification of plan.

* * * * *

(c) * * *

(102) * * *

(i) * * *

(C) * * *

(1) Previously approved on October 31, 1995 in paragraph (c)(102)(i)(C) of this section and now deleted without replacement: OEPA OAC Rule 3745-21-09, Control of Emissions of Volatile Organic Compounds from Stationary Sources, Paragraph (AAA), as adopted by Ohio on October 25, 2002, effective on November 5, 2002.

* * * * *

(149) On October 9, 2000, February 6, 2001, August 3, 2001, and June 24, 2003, Ohio submitted revisions to Ohio Administrative Code (OAC) Chapter 3745-21 to address a variety of changes to its Carbon Monoxide and Volatile Organic Compounds regulations. The pertinent provisions are in OAC 3745-21-09; for other rules in these submittals, later versions have been addressed in separate rulemaking (see paragraph 146 of this section).

(i) Incorporation by reference.

(A) The following paragraphs of OAC 3745-21-09, entitled “Control of emissions of volatile organic compounds from stationary sources and perchloroethylene from dry cleaning facilities,” as adopted by Ohio on October 25, 2002, effective on November 5, 2002:

(1) Paragraphs (A)(4), (B)(3)(a), (B)(3)(d), (B)(3)(e), (B)(3)(f), (B)(3)(h), (B)(3)(j), (B)(3)(l), (B)(4)(a), (B)(4)(b), (C)(4), (H)(1), (H)(3), (O)(5)(b), (O)(6), (R)(4), (U)(2)(h), (Y)(1)(a)(i), (AA)(1)(b), (AA)(1)(c), (FF)(1), (II)(2), (II)(3), (II)(4), (KK)(1), (NN), (OO), (PP)(2), (UU)(3), (DDD), and Appendix A.

(2) Within paragraph (U), the undesignated paragraph following (U)(2)(e).

(B) October 25, 2002, “Director's Final Findings and Orders”, signed by Christopher Jones, Director, Ohio Environmental Protection Agency.

(ii) Additional Information. The following permits to install authorizing exemptions under OAC Rule 3745-21-09(U)(2)(f) were issued by Ohio during the time period when the State had unilateral authority to issue them.

(A) Permit To Install issued by the State Of Ohio to Chase Industries, Inc, Cincinnati, OH, on June 24, 1998, for emissions unit K002, pursuant to application number 14-4578.

(B) Permit To Install issued by the State Of Ohio to CAE Ransohoff, Inc., Union, OH, on March 5, 1997, for emissions units K001 and K002, pursuant to application number 14-4268.

(C) Permit To Install issued by the State Of Ohio to Phoenix Presentations, Inc., Butler County, OH, on January 21, 1999, for emissions units R001, R002, and R003, pursuant to application number 14-4612.

(D) Permit To Install issued by the State Of Ohio to CTL Aerospace, Inc., Cincinnati, OH, on August 19, 1998, for emissions unit R005, pursuant to application number 14-4572.

(E) Permit To Install issued by the State Of Ohio to Hamilton Fixture, Hamilton, OH, on April 24, 1996, for emissions unit R006, pursuant to application number 14-4014.

(F) Permit To Install issued by the State Of Ohio to Lt. Moses Willard, Inc., Milford, OH, on December 23, 1997, for emissions units K001 and K002, pursuant to application number 14-4220.

(G) Permit To Install issued by the State Of Ohio to WHM Equipment Co., Cincinnati, OH, on May 28, 1997, for emissions unit K001, pursuant to application number 14-4348.

(H) Permit To Install issued by the State Of Ohio to Panel-Fab, Inc., Cincinnati, OH, on June 12, 1996, for emissions unit K001, pursuant to application number 14-4027.

(I) Permit To Install issued by the State Of Ohio to Cincinnati Fan & Ventilator, Mason, OH, on June 15, 1995, for emissions unit K003, pursuant to application number 14-3774.

(J) Permit To Install issued by the State Of Ohio to Honda of America Manufacturing, Inc., Marysville, OH, on December 24, 1997, for emissions units R003, and R103, pursuant to application number 01-6743.

(K) Permit To Install issued by the State Of Ohio to Durr Ecoclean, Inc. (formerly Henry Filters, Inc.), Bowling Green, OH, on June 26, 1996, for emissions unit K001 pursuant to application number 03-9510.

(L) Permit To Install issued by the State Of Ohio to Honda of America Manufacturing, Inc., East Liberty, OH, on April 17, 1996, for emissions units K009 and K013, pursuant to application number 05-7923.

(M) Permit To Install issued by the State Of Ohio to American Trim, LLC (formerly Stolle Corporation, Stolle Products Division), Sidney, OH, on September 13, 1995, K045, pursuant to application number 05-7329.

(N) Permit To Install issued by the State Of Ohio to American Trim, LLC (formerly Stolle Products), Sidney, OH, on December 3, 1998, for emissions unit K048, pursuant to application number 05-9516.

(O) Permit To Install issued by the State Of Ohio to Hawkline Nevada, LLC (formerly Trinity Industries, Inc.), Plant 101, Mt. Orab, OH, on February 28, 1996, for emissions unit K001, pursuant to application number 07-407.

(P) Permit To Install issued by the State Of Ohio to American Trim, LLC (formerly Superior Metal Products), Lima, OH, on July 23, 1997, for emissions unit K002, pursuant to application number 03-0397.

[FR Doc. 2010-14902 Filed 6-18-10; 8:45 am]

BILLING CODE 6560-50-P